DEPARTMENT OF STATE

[Public Notice: 7521]

Culturally Significant Objects Imported for Exhibition Determinations: “Prints and the Pursuit of Knowledge in Early Modern Europe”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Prints and the Pursuit of Knowledge in Early Modern Europe,” imported from abroad for temporary exhibition within the United States, are of cultural significance. The objects are imported pursuant to loan agreements with the foreign owners or custodians. I also determine that the exhibition or display of the exhibit objects at the Harvard Art Museums, Cambridge, MA, from on or about September 6, 2011, until on or about December 10, 2011; The Mary and Leigh Block Museum of Art, Northwestern University, Evanston, IL, from on or about January 17, 2012, until on about April 8, 2012, and at possible additional exhibitions or venues yet to be determined, is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: June 30, 2011.
Ann Stock,
Assistant Secretary, Bureau of Educational and Cultural Affairs, Department of State.

[FR Doc. 2011-17212 Filed 7-7-11; 8:45 am]

BILLING CODE 4710-05-P